DEPARTMENT OF COMMERCE

Census Bureau

15 CFR Part 30

[Docket No: 250808-0135]

RIN 0607-AA62

Foreign Trade Regulations (FTR): Clarification of Filing Requirements Regarding In-Transit Shipments and Other FTR Provisions; Correction

AGENCY: Census Bureau, Department of Commerce.

ACTION: Final rule; correction.

SUMMARY: On August 14, 2025, the Census Bureau published a final rule in the Federal Register entitled, “Foreign Trade Regulations (FTR): Clarification of Filing Requirements Regarding In-Transit Shipments and Other FTR Provisions”. This document referenced incorrect amendatory language in the List of Subjects in 15 CFR part 30 section.

DATES: Effective September 15, 2025.

FOR FURTHER INFORMATION CONTACT: For additional information concerning this correction, contact Kiesha Downs, Assistant Division Chief, Data User and Respondent Outreach, Economic Management Division, Census Bureau, 4600 Silver Hill Road, Washington, DC 20233-6010 by email at gtmd.ftrnotices@census.gov.

SUPPLEMENTARY INFORMATION:

Corrections

In FR Doc. 2025-15493, appearing on page 39112 in the Federal Register of August 14, 2025, the following corrections are made:

§ 30.1 [Corrected]

1. On page 39117, in the second column, in amendment 2, correct “a” to read as follows: “a. Revising the definitions for “Buyer” and “Commerce Control List (CCL)”;

§ 30.3 [Corrected]

2. On page 39118, in the second column, in amendment 4, correct “d” to read as follows: “d. Revising paragraphs (b)(1), (b)(2) introductory text, (b)(2)(i), (b)(2)(ii), and (b)(2)(iv);” and

3. On page 39118, in the third column, in amendment 4, correct “h” through “l” and add “m” and “n” to read as follows:

h. Revising (c)(1)(i);

i. Revising (d)(4) and (e)(1);

j. Removing paragraphs (e)(1)(i) through (xii);

k. Revising the Note to paragraph (e)(1); and

l. Revising paragraph (e)(2) introductory text;

m. Removing paragraphs (e)(2)(i) through (xv); and

n. Revising the Note to paragraph (e)(2).

Appendix B to Part 30 [Corrected]

5. On page 39123, in the third column, correct amendment 23 to read as follows:

23. Amend Appendix B to part 30 by revising the entry for “X. Split Shipments” and adding an entry for “XI. Miscellaneous Exclusion Statements”:

The revisions read as follows:

Appendix B to Part 30—AES Filing Citation, Exemption and Exclusion Legends

* * * * *

X. Split Shipments Split Shipments should be referenced as such on the manifest in accordance with provisions contained in § 30.28, Split Shipments. The notation should be easily identifiable on the manifest. It is preferable to include a reference to a split shipment in the exemption statements cited in the example, the notation “SS” should be included at the end of the appropriate exemption statement | AES ITN SS Example: AES X20170101987654 SS.
XI. Miscellaneous Exclusion Statements are found in 15 CFR part 30 subpart A § 30.2(d) | NOEEI § 30.2(d) (site corresponding number).

Ron Jarmin, Acting Director, Census Bureau, approved the publication of this notice in the Federal Register.

Dated: August 22, 2025.
Shannon Wink,
Program Analyst, Policy Coordination Office, U.S. Census Bureau.

[FR Doc. 2025-16389 Filed 8-26-25; 8:45 am]

BILLING CODE 3510-07-P